DEPARTMENT OF JUSTICE

Antitrust Division

Notice Pursuant to the National Cooperative Research and Production Act of 1993—National Spectrum Consortium

Notice is hereby given that, on November 10, 2020, pursuant to Section 6(a) of the National Cooperative Research and Production Act of 1993, 15 U.S.C. 4301 et seq. (“the Act”), National Spectrum Consortium (“NSC”) has filed written notifications simultaneously with the Attorney General and the Federal Trade Commission disclosing changes in its membership. The notifications were filed for the purpose of extending the Act's provisions limiting the recovery of antitrust plaintiffs to actual damages under specified circumstances. Specifically, Qwest Government Services, Inc. dba CenturyLink QGS, Herndon, VA; Viavi Solutions, Inc., Germantown, MD; Sierra Nevada Corporation, Sparks, ND; Boonton Electronics, A Wireless Telecom Group Company, Parsippany, NJ; QinetiQ, Inc., Lorton, VA; Rampart Communications, Inc., Hanover, MD; Red Hat Professional Consulting, Inc., Raleigh, NC; CTIA-The Wireless Association, Washington, DC; PathFinder Digital, LLC, Sanford, FL; Aarna Networks, Inc., San Jose, CA; James River Design & MFG LLC DBA Avcom of Virginia North Chesterfield, VA; M2 Technology, Inc., San Antonio, TX; Mercury Systems, Inc. Andover, MA; Vision Engineering Solutions, Inc., Merritt Island, FL; Vitruvian Labs, LLC, Havre De Grace, MD; Emerging Technology Ventures, Inc., Alamogordo, NM; John Mezzalingua Associates, LLC (JMA), Liverpool, NY; Connected Devices LLC (Applied Data Decisions), Chapel Hill, NC; NetObjex Inc, Santa Ana, CA; Mentor Graphics Corporation, Wilsonville, OR; Techximius Corp, Joppa, MD; Cohere Technologies, Inc., Santa Clara, CA; GenOne Technologies LLC, Cambridge, MA; TITENN, Inc., Oviedo, FL; Paul Christoforou dba Lociva, Haymarket, VA; and Aperio Global, LLC, Reston, VA have been added as parties to this venture.

Also, X-COM Systems LLC Reston, VA; Aspen Consulting Group, Manasquan, NJ; AVANTech Inc, Columbia, SC; Institute for Building Technology and Safety (IBTS), Ashburn, VA; Power Fingerprinting Inc., Vienna, VA; and Sentrana, Arlington, VA have withdrawn from this venture.

No other changes have been made in either the membership or planned activity of the group research project. Membership in this group research project remains open, and NSC intends to file additional written notifications disclosing all changes in membership.

On September 24, 2014, NSC filed its original notification pursuant to Section 6(a) of the Act. The Department of Justice published a notice in the Federal Register pursuant to Section 6(b) of the Act on November 4, 2014 (72 FR 65424).

The last notification was filed with the Department on July 13, 2020. A notice was published in the Federal Register pursuant to Section 6(b) of the Act on July 31, 2020 (85 FR 46178).

Suzanne Morris,
Chief, Premerger and Division Statistics Antitrust Division.

[FR Doc. 2020-25718 Filed 11-20-20; 8:45 am]

BILLING CODE P